DEPARTMENT OF TRANSPORTATION

Federal Aviation Administration

14 CFR Part 39

[Docket No. FAA-2008-0256; Directorate Identifier 2007-SW-01-AD]

RIN 2120-AA64

Airworthiness Directives; Agusta S.p.A. Model AB 139 and AW 139 Helicopters

AGENCY: Federal Aviation Administration (FAA), DOT.

ACTION: Notice of proposed rulemaking (NPRM).

SUMMARY: We propose to adopt a new airworthiness directive (AD) for Agusta S.p.A. Model AB 139 and AW 139 helicopters. This proposed AD results from mandatory continuing airworthiness information (MCAI) originated by an aviation authority of another country to identify and correct an unsafe condition on an aviation product. The European Aviation Safety Agency (EASA), the Technical Agent for Italy, with which we have a bilateral agreement, states in the MCAI:

Tests have shown that the Agusta AB/AW 139's Fuselage Frame 5700 middle section is prone to fatigue damage. To prevent cracks or structural failure in this area, a repetitive inspection has been introduced * * *

The proposed AD would require actions that are intended to address this unsafe condition of cracks in the fuselage frame structure.

DATES: We must receive comments on this proposed AD by April 7, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket: You may examine the AD docket on the Internet at http://www.regulations.gov; or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2008-0256; Directorate Identifier 2007-SW-01-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued a MCAI in the form of EASA Airworthiness Directive No. 2006-0357, dated November 29, 2006 (referred to after this as “the MCAI”), to correct an unsafe condition for these Italian-certificated helicopters. The MCAI states:

Tests have shown that the Agusta AB/AW 139's Fuselage Frame 5700 middle section is prone to fatigue damage. To prevent cracks or structural failure in this area, a repetitive inspection has been introduced * * *

You may obtain further information by examining the MCAI and service information in the AD docket.

Relevant Service Information

Agusta S.p.A. has issued Bollettino Tecnico No. 139-018, Revision B, dated October 18, 2006. The actions described in the MCAI are intended to correct the same unsafe condition as that identified in the service information.

FAA's Determination and Requirements of This Proposed AD

This product has been approved by the aviation authority of another country, and is approved for operation in the United States. Pursuant to our bilateral agreement with this State of Design Authority, we have been notified of the unsafe condition described in the MCAI and service information. We are proposing this AD because we evaluated all pertinent information and determined an unsafe condition exists and is likely to exist or develop on other products of the same type design.

Differences Between This AD and the MCAI

This AD differs from the MCAI in that the MCAI states “When damage or cracks are found, before next flight, contact the TC Holder for further instructions.” This AD requires repairing the crack before further flight in accordance with an FAA-approved procedure if a crack is found. Also, this AD requires that the inspection be performed based on “hours time-in-service” rather than “flight hours”, as stated in the MCAI.

Costs of Compliance

We estimate that this proposed AD would affect about 17 helicopters of U.S. registry. We also estimate that it would take about 1 work-hour per helicopter to comply with the initial and each subsequent recurring inspection of this proposed AD. The average labor rate is $80 per work-hour. Assuming that 3 recurring inspections would be performed on each of the affected helicopters every year after the initial inspection and that 2 of the affected helicopters would require repairs to the fuselage middle frame section at $10,000 per repair during the service life of these helicopters, we estimate the cost of the proposed AD as follows:

• Initial Inspection Costs: 1 × 80 × 17 = $1360.

• Subsequent Recurring Inspection Costs over the next 20 years: 1 × 3 × 20 × 80 × 17 = $81,600.

• Repair Costs: 2 × 10,000 = $20,000.

Based on these figures, we estimate the cost of the proposed AD on U.S. operators to be $102,960, or $6,056 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Agusta S.p.A: Docket No. FAA-2008-0256; Directorate Identifier 2007-SW-01-AD.

Comments Due Date

(a) We must receive comments by April 7, 2008.

Other Affected ADs

(b) None.

Applicability

(c) This AD applies to Agusta S.p.A Model AB 139 and AW 139 helicopters, certificated in any category.

Reason

(d) The mandatory continuing airworthiness information (MCAI) states:

Tests have shown that the Agusta AB/AW 139's Fuselage Frame 5700 middle section is prone to fatigue damage. To prevent cracks or structural failure in this area, a repetitive inspection has been introduced * * *.

Actions and Compliance

(e) Required as indicated, unless already done.

(1) Within the next 10 hours time-in-service (TIS), or upon accumulating 100 hours TIS since new, whichever occurs later, inspect the fuselage frame 5700 middle section in accordance with the Compliance Instructions, pargraphs 1. through 4., of Agusta Bolletino Tecnico No. 139-018, Revision B, dated October 18, 2006;

(2) Thereafter, at intervals not exceeding 100 hours TIS, repeat the inspection as required by paragraph (e)(1) of this AD;

(3) If a crack is found, before further flight, repair the crack in accordance with an FAA-approved procedure.

Differences Between the FAA AD and the MCAI

(f) This AD differs from the MCAI as follows:

(1) The MCAI states “When damage or cracks are found, before next flight, contact the TC Holder for further instructions.” If a crack is found, this AD requires repairing the crack before further flight in accordance with an FAA-approved procedure.

(2) This AD requires that the inspection be performed based on “hours time-in-service” not “flight hours.”

Subject

(g) Air Transportation of America (ATA) Code 5700: Fuselage frame middle section.

Other Information

(h) The following provisions also apply to this AD:

(1) Alternative Methods of Compliance (AMOCs): The Manager, Safety Management Group, FAA, has the authority to approve AMOCs for this AD, if requested using the procedures found in 14 CFR 39.19. Send information to ATTN: Sharon Miles, Aviation Safety Engineer, FAA, Rotorcraft Directorate, Regulations and Guidance Group, Fort Worth, Texas 76193-0111, telephone (817) 222-5122, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI European Aviation Safety Agency (EASA) Airworthiness Directive No. 2006-0357, dated November 29, 2006, contains related information.

Issued in Fort Worth, Texas, on February 14, 2008.
Mark R. Schilling,
Acting Manager, Rotorcraft Directorate, Aircraft Certification Service.

[FR Doc. E8-4461 Filed 3-6-08; 8:45 am]

BILLING CODE 4910-13-P